DEPARTMENT OF TRANSPORTATION

Federal Aviation Administration

14 CFR Part 39

[Docket No. FAA-2007-27860; Directorate Identifier 2007-CE-034-AD; Amendment 39-15160; AD 2007-17-02]

RIN 2120-AA64

Airworthiness Directives; Allied Ag Cat Productions, Inc. (Type Certificate No. 1A16 Formerly Held by Schweizer Aircraft Corp.) G-164 Series Airplanes

AGENCY: Federal Aviation Administration (FAA), Department of Transportation (DOT).

ACTION: Final rule.

SUMMARY: We are adopting a new airworthiness directive (AD) to supersede AD 82-07-04, which applies to certain Allied Ag Cat Productions, Inc. (Ag Cat) G-164 series airplanes. AD 82-07-04 currently requires you to modify the fuel shut-off valve control by installing a new stop-plate. Since we issued AD 82-07-04, we have determined the need to add airplane models and serial numbers that were not previously included in the Applicability section. Consequently, this AD retains the actions of AD 82-07-04 and adds airplane models and serial numbers to the Applicability section. We are issuing this AD to prevent turning the fuel shut-off valve clockwise past the “ON” position stop which, if not corrected, could allow the fuel valve to be rotated to an unplacarded “OFF” position. This condition could lead to reduced fuel flow and consequent loss of engine power.

DATES: This AD becomes effective on September 18, 2007.

On September 18, 2007, the Director of the Federal Register approved the incorporation by reference of certain publications listed in this AD.

ADDRESSES: For service information identified in this AD, contact Allied Ag Cat Productions, Inc., 301 West Walnut Street, P.O. Box 482, Walnut Ridge, Arkansas 72479; telephone: (870) 866-2111.

To view the AD docket, go to U.S. Department of Transportation, Docket Operations, M-30, West Building Ground Floor, Room W12-140, 1200 New Jersey Avenue, SE., Washington, DC 20590, or on the Internet at http://dms.dot.gov. The docket number is FAA-2007-27860; Directorate Identifier 2007-CE-034-AD.

FOR FURTHER INFORMATION CONTACT: Matt Wilbanks, Aerospace Engineer, FAA, Fort Worth Airplane Certification Office, 2601 Meacham Blvd., Fort Worth, Texas 76137; telephone: (817) 222-5051; fax: (817) 222-5960.

SUPPLEMENTARY INFORMATION:

Discussion

On May 9, 2007, we issued a proposal to amend part 39 of the Federal Aviation Regulations (14 CFR part 39) to include an AD that would apply to certain Ag Cat G-164 series airplanes. This proposal was published in the Federal Register as a notice of proposed rulemaking (NPRM) on May 16, 2007 (72 FR 27489). The NPRM proposed to retain the actions of AD 82-07-04 and add airplane models and serial numbers to the applicability.

Comments

We provided the public the opportunity to participate in developing this AD. We received no comments on the proposal or on the determination of the cost to the public.

Conclusion

We have carefully reviewed the available data and determined that air safety and the public interest require adopting the AD as proposed except for minor editorial corrections. We have determined that these minor corrections:

• Are consistent with the intent that was proposed in the NPRM for correcting the unsafe condition; and

• Do not add any additional burden upon the public than was already proposed in the NPRM.

Differences Between This AD and the Service Information

This AD affects additional models and serial numbers airplanes compared to the list in the applicability section of the service information. The requirements of this AD take precedence over the provisions in the service information.

Costs of Compliance

We estimate that this AD affects 1,400 airplanes in the U.S. registry, including those airplanes affected by AD 82-07-04.

We estimate the following costs to do the modification:

Labor cost | Parts cost | Total cost per airplane | Total cost on U.S. operators
2.5 work-hours × $80 per hour = $200 | $500 | $700 | $980,000

We based our fleet cost estimate on all airplanes needing the modification. We have no way of knowing which airplanes already have modified the fuel shut-off control per AD 82-07-04. We also have no way of knowing how many airplanes have been retrofitted with the Gemini fuel shut-off valve part number 3/4-86-6-RT-6 (A3580-1) without incorporating AD 82-07-04.

The estimated total cost on U.S. operators includes the cumulative costs associated with those airplanes affected by AD 82-07-04 and those airplanes being added in this AD.

Authority for This Rulemaking

Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

We have determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2007-27860; Directorate Identifier 2007-CE-034-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 82-07-04, Amendment 39-4355, and adding the following new AD:

2007-17-02 Allied Ag Cat Productions, Inc. (Type Certificate No. 1A16 formerly held by Schweizer Aircraft Corp.): Amendment 39-15160; Docket No. FAA-2007-27860; Directorate Identifier 2007-CE-034-AD.

Effective Date

(a) This AD becomes effective on September 18, 2007.

Affected ADs

(b) This AD supersedes AD 82-07-04, Amendment 39-4355.

Applicability

(c) This AD applies to the following model and serial number airplanes that are certificated in any category and have Gemini fuel shut-off valve part number (P/N) 3/4-86-6-RT-6 (A3580-1) installed:

(1) Group 1 (maintains the actions from AD 82-07-04):

Model | Serial Nos.
(i) G-164A | 1726A through 1730A.
(ii) G-164B | 335B through 659B.
(iii) G-164C | 1C through 44C.
(iv) G-164D | 1D through 22D.

(2) Group 2:

Model | Serial Nos.
(i) G-164 | All.
(ii) G-164A | All except 1726A through 1730A.
(iii) G-164B and G-164B with 73″ wing gap | All except 335B through 659B.
(iv) G-164B-15T | All.
(v) G-164B-20T | All.
(vi) G-164B-34T | All.
(vii) G-164C | All except 1C through 44C.
(iv) G-164D and G-164D with 73″ wing gap | All except 1D through 22D.

Unsafe Condition

(d) This AD results from our determination to add airplane models and serial numbers that were not previously included in the applicability. We are issuing this AD to prevent turning the fuel shut-off valve clockwise past the “ON” position which, if not corrected, could allow the fuel valve to be rotated to an unplacarded “OFF” position.

Compliance

(e) To address this problem, you must do the following, unless already done:

Actions | Compliance | Procedures
(1) Modify the fuel shut-off valve control by installation of a new stop-plate, P/N A1552-71 (or FAA-approved equivalent) | (i) For Group 1 Airplanes: Within the next 100 hours time-in-service (TIS) after April 6, 1982 (the effective date of AD 82-07-04) | Follow Schweizer Aircraft Corp. Ag-Cat Service Bulletin No. 78, dated January 26, 1982.
| (ii) For Group 2 Airplanes: Within the next 100 hours TIS after September 18, 2007 (the effective date of this AD).
(2) Do not install any Gemini fuel shut-off valve P/N 3/4-86-6-RT-6 (A3580-1) on any airplane unless the stop-plate is installed per paragraph (e)(1) of this AD | For all Airplanes: As of the next 100 hours TIS after September 18, 2007 (the effective date of this AD) | Follow Schweizer Aircraft Corp. Ag-Cat Service Bulletin No. 78, dated January 26, 1982.

Alternative Methods of Compliance (AMOCs)

(f) The Manager, Fort Worth Airplane Certification Office (ACO), FAA, has the authority to approve AMOCs for this AD, if requested using the procedures found in 14 CFR 39.19. Send information to ATTN: Matt Wilbanks, Aerospace Engineer, Fort Worth ACO, 2601 Meacham Blvd., Fort Worth, Texas 76137; telephone: (817) 222-5051; fax: (817) 222-5960. Before using any approved AMOC on any airplane to which the AMOC applies, notify your appropriate principal inspector (PI) in the FAA Flight Standards District Office (FSDO), or lacking a PI, your local FSDO.

(g) AMOCs approved for AD 82-07-04 are approved for this AD.

Material Incorporated by Reference

(h) You must use Schweizer Aircraft Corp. Ag-Cat Service Bulletin No. 78, dated January 26, 1982, to do the actions required by this AD, unless the AD specifies otherwise.

(1) The Director of the Federal Register approved the incorporation by reference of this service information under 5 U.S.C. 552(a) and 1 CFR part 51.

(2) For service information identified in this AD, contact Allied Ag Cat Productions, Inc., 301 West Walnut Street, P.O. Box 482, Walnut Ridge, Arkansas 72479; telephone: (870) 866-2111.

(3) You may review copies at the FAA, Central Region, Office of the Regional Counsel, 901 Locust, Kansas City, Missouri 64106; or at the National Archives and Records Administration (NARA). For information on the availability of this material at NARA, call 202-741-6030, or go to: http://www.archives.gov/federal_register/code_of_federal_regulations/ibr_locations.html.

Issued in Kansas City, Missouri, on August 6, 2007.
Kim Smith,
Manager, Small Airplane Directorate, Aircraft Certification Service.

[FR Doc. E7-15793 Filed 8-13-07; 8:45 am]

BILLING CODE 4910-13-P